DEPARTMENT OF AGRICULTURE

Commodity Credit Corporation

Notice of Request for Extension and Revision of a Currently Approved Information Collection

AGENCY: Commodity Credit Corporation, USDA.

ACTION: Notice and request for comments.

SUMMARY: In accordance with the Paperwork Reduction Act of 1995, this notice announces the intention of the Commodity Credit Corporation (CCC) to request an extension and revision of currently approved information collections in support of the Regulations—Financing Commercial Sales of Agricultural Commodities under Title I of Public Law 83-480; Request for Vessel Approval, Form CCC-105 and Request for Vessel Approval, Form CCC-105 (cotton); and Declaration of Sale, Form FAS-359.

DATES: Comments on this notice must be received by September 5, 2006.

Additional Information or Comments: Contact William Hawkins, Director, Program Administration Division, Foreign Agricultural Service, U.S. Department of Agriculture, Stop 1031, Washington, DC 20250-1031, telephone (202) 720-3241.

SUPPLEMENTARY INFORMATION: Title: Regulations—Financing Commercial Sales of Agricultural Commodities under Title I, Public law 480; Request for Vessel Approval, Form CCC-105 and Request for Vessel Approval, Form CCC-105 (cotton); and Declaration of Sale, Form FAS-359.

OMB Number: 0551-0005 (Records and Rule Keeping), 0551-0008 (request for Vessel Approval Form), and 0551-0009 (Declaration of Sale Form) were combined into OMB Number 0551-0005 in 2003.

Expiration Date of Approval: November 30, 2006.

Type of Request: Extension and revision of currently approved information collections.

Abstract: Title I of The Agricultural Trade Development and Assistance Act of 1954, as amended, (Pub. L. 83-480) authorizes the CCC to finance the sale and exportation of agricultural commodities on concessional credit terms. Suppliers of commodities and ocean transportation must retain records for 3 years. Prospective commodity suppliers must provide information for the Department to determine eligibility. Commodity suppliers must report details of sales for price approval and submit to USDA, for approval, information on any amendments to the sales. Form FAS-359, “Declaration of Sale,” is the written record, signed by the commodity supplier, of the terms of sale as reported by telephone. When signed by the General Sales Manager, it provides evidence of the USDA price approval required for CCC financing. Shipping agents nominated by importing countries must submit information to allow identification of possible conflicts of interest. Shipping agents or embassies submit pertinent shipping information on Form CCC-105 to facilities approval by CCC of shipping arrangements. This approval is necessary to assure compliance with cargo preference requirements at the lowest cost to CCC. Agents submit this document in order that USDA can generate the CCC-106, a necessary payment document. Ocean carriers then receive payment for ocean freight.

The information collected is used by CCC to manage, plan, evaluate the use of, and account for government resources. The reports and records are required to ensure the proper and judicious use of public funds.

Estimate of Burden: The public reporting burden for these collections is estimated to average 8 hours per Recordkeeping, 30 minutes per Vessel Approval and 15 minutes per Declaration of Sale response.

Respondents: Suppliers of commodities and ocean transportation; prospective commodity suppliers; shipping agents; and businesses or other for-profit entities.

Estimated Number of Respondents: 25 per annum.

Estimated Total Annual Burden on Respondents: 88.75 hours.

Copies of this information collection can be obtained from Tamoria Thompson-Hall, the Agency Information Collection Coordinator, at (202) 690-1690.

Requests for Comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to William Hawkins, Director, Program Administration Division, Foreign Agricultural Service, U.S. Department of Agriculture, Stop 1031, Washington, DC 20250-1031, or to the Desk Officer for Agriculture, Office of Information and Regulatory Affairs, Office of Management and Budget, Washington, DC 20503. Persons with disabilities who require an alternative means for communication of information (Braille, large print, audiotape, etc.) should contact USDA's Target Center at (202) 720-2600 (voice and TDD). All responses to this notice will be summarized and included in the request for OMB approval. All comments will also become a matter of public record.

Signed at Washington, DC on June 19, 2006.
Michael W. Yost,
Administrator, Foreign Agricultural Service.

[FR Doc. 06-6028 Filed 7-6-06; 8:45 am]

BILLING CODE 3410-10-M